DEPARTMENT OF DEFENSE

Department of the Army; Corps of Engineers

Notice of Availability of Final Environmental Impact Statement for the Proposed Construction of the Western Wake Regional Wastewater Management Facilities; Which Includes Regional Wastewater Pumping, Conveyance, Treatment, and Discharge Facilities To Serve the Towns of Apex, Cary, Holly Springs and Morrisville, as Well as the Wake County Portion of Research Triangle Park (RTP South) in North Carolina

AGENCY: Department of the Army, U.S. Army Corps of Engineers, DoD.

ACTION: Notice; extension of comment period.

SUMMARY: The comment period for the Final Environmental Impact Statement for the proposed construction of the Western Wake Regional Wastewater Management Facilities, in Wake and Chatham Counties, NC published in the Federal Register on Friday, December 18, 2009 (74 FR 67180), required comments be submitted 33 days (January 19, 2010) following publication in the Federal Register. The comment period has been extended to 54 days (February 9, 2010). This is because the initial Web version of the Final Environmental Impact Statement had problems with the Web links. The web version was corrected on December 28, 2009.

FOR FURTHER INFORMATION CONTACT: Henry Wicker, Telephone (910) 251-4930.

Brenda S. Bowen,
Army Federal Register Liaison Officer.

[FR Doc. 2010-237 Filed 1-8-10; 8:45 am]

BILLING CODE 3720-58-P